DEPARTMENT OF LABOR

Employment and Training Administration

[TA-W-40,568]

Carlisle Engineered Products, Erie, PA; Amended Certification Regarding Eligibility To Apply for Worker Adjustment Assistance

In accordance with section 223 of the Trade Act of 1974 (19 U.S.C. 2273) the Department of Labor issued a Certification of Eligibility to Apply for Worker Adjustment Assistance on January 29, 2002, applicable to workers of Carlisle Engineered Products, Erie, Pennsylvania. The notice was published in the Federal Register on February 13, 2002 (67 FR 6748).

At the request of a company official, the Department reviewed the certification for workers of the subject firm. The workers were engaged in the production of engine-cooling components.

New information shows that workers will be retained at the subject firm beyond the January 29, 2004, expiration date of the certification. These employees will complete the close-down process until their termination no later than May 31, 2004. Based on these findings, the Department is amending the certification to extend the January 29, 2004, expiration date for TA-W-40,568 to read May 31, 2004.

The intent of the Department's certification is to include all workers of Carlisle Engineered Products who were adversely affected by increased imports.

The amended notice applicable to TA-W-40,568 is hereby issued as follows:

All workers of Carlisle Engineered Products, Erie, Pennsylvania, who became totally or partially separated from employment on or after October 25, 2000, through May 31, 2004, are eligible to apply for adjustment assistance under section 223 of the Trade Act of 1974.

Signed at Washington, DC, this 29th day of January, 2004.
Linda G. Poole,
Certifying Officer, Division of Trade Adjustment Assistance.

[FR Doc. E4-249 Filed 02-10-04;8:45 am]

BILLING CODE 4510-13-P